GENERAL SERVICES ADMINISTRATION

2006 Travel and Relocation Innovation Award

AGENCY: Office of Governmentwide Policy, General Services Administration (GSA)

ACTION: Notice.

SUMMARY: The General Services Administration (GSA) is announcing the 2006 Travel and Relocation Innovation Award. The purpose of the award is to recognize the professionals of travel and/or relocation management.

FOR FURTHER INFORMATION CONTACT: Visit the National Travel Forum 2006 (NTF 2006) Web site at http://www.nationaltravelforum.org and click on “Awards”or contact Jane Groat, Office of Travel, Transportation, and Asset Management (MT), General Services Administration, Washington, DC 20405, (202) 501-4318, jane.groat@gsa.gov.

SUPPLEMENTARY INFORMATION: The Federal Travel Regulation is contained in 41 Code of Federal Regulations (CFR), Chapters 300 through 304, and implements statutory requirements and Executive branch policies for travel by Federal civilian employees and others authorized to travel at Government expense.

The General Services Administration (GSA), sponsor of the Interagency Travel Management Committee (ITMC) and the National Travel Forum 2006 (NTF 2006), announces a new travel award to recognize and honor excellence in Federal travel and relocation. This award, available to all Federal employees, will honor individuals and/or teams. In addition to cash awards, one or more entries may receive the Honorable Mention Award. Entries must be received no later than March 31, 2006.

Announcement and presentation of winners will be at GSA's National Travel Forum 2006 (June 26-29, 2006 in Los Angeles, CA).

Dated: January 6, 2006.
Patrick F. McConnell,
Acting Director,Travel Management Policy.

[FR Doc. E6-168 Filed 1-11-06; 8:45 am]

BILLING CODE 6820-14-S